DEPARTMENT OF COMMERCE

International Trade Administration

[C-423-809]

Stainless Steel Plate in Coils From Belgium: Preliminary Results of Full Sunset Review

AGENCY: Import Administration, International Trade Administration, Department of Commerce.

SUMMARY: On June 2, 2010, the Department of Commerce (“the Department”) initiated the second sunset review of the countervailing duty (“CVD”) order on certain stainless steel plate in coils from Belgium (“subject merchandise”) pursuant to section 751(c) of the Tariff Act of 1930, as amended (“the Act”). On the basis of a notice of intent to participate and an adequate substantive response filed on behalf of the domestic interested parties and adequate substantive responses from ArcelorMittal Stainless Belgium N.V. (“AMS”) and the Government of Belgium (“GOB”), the Department determined to conduct a full sunset review of the CVD order pursuant to section 751(c) of the Act and 19 CFR 351.218(e)(2). As a result of our analysis, the Department preliminarily finds that revocation of the CVD order would likely lead to continuation or recurrence of a countervailable subsidy.

DATES: Effective Date: December 27, 2010.

FOR FURTHER INFORMATION CONTACT: Alexander Montoro or David Neubacher, AD/CVD Operations, Office 1, Import Administration, U.S. Department of Commerce, 14th Street and Constitution Avenue, NW., Washington, DC 20230; telephone: (202) 482-0238 or (202) 482-5823.

SUPPLEMENTARY INFORMATION:

Background

On June 2, 2010, the Department initiated the second sunset review of the CVD order on stainless steel plate in coils (“SSPC”) from Belgium in accordance with section 751(c) of the Act. See Initiation of Five-Year (“Sunset”) Review, 75 FR 30777 (June 2, 2010).

Within the deadline specified in 19 CFR 351.218(d)(1)(i), the Department received notices of intent to participate on behalf of Allegheny Ludlum Corporation and the United Steel, Paper and Forestry, Rubber, Manufacturing, Energy, Allied Industrial and Service Workers International Union (collectively, “Petitioners”). The submitters claimed interested party status under sections 771(9)(C) and (D) of the Act, as a manufacturer of a domestic like product and as a certified union representing workers in the domestic industry producing certain SSPC, respectively. The Department received a substantive response from Petitioners within the deadline specified in 19 CFR 351.218(d)(3)(i). The Department also received substantive responses in a timely manner from the following respondent interested parties: AMS and the GOB (collectively, “Respondents”). Timely rebuttal comments were received from Petitioners and Respondents on July 9, 2010. On July 22, 2010, after analyzing the submissions and rebuttals from interested parties and finding the substantive responses adequate, the Department determined to conduct a full sunset review. See Memorandum from Yasmin Nair, International Trade Compliance Analyst, to Susan H. Kuhbach, Director, AD/CVD Operations, Office 1, entitled “Adequacy Determination in Countervailing Duty Sunset Review of Certain Stainless Steel Plate in Coils from Belgium,” dated July 22, 2010.

On September 24, 2010, the Department published in the Federal Register an extension of the time limit for the completion of the preliminary results of this sunset review until no later than December 20, 2010, as permitted by section 751(c)(5)(B) of the Act. See Stainless Steel Plate in Coils from Belgium: Extension of Time Limits for Preliminary and Final Results of Full Five-Year (“Sunset”) Review of Countervailing Duty Order, 75 FR 58351 (September 24, 2010).

On November 23, 2010, the GOB, at the request of the Department, placed on the record a verification report from the CVD investigation of SSPC from Belgium, which the GOB cited in its substantive response. See GOB's November 23, 2010, submission.

Scope of the Order

The products covered by the order are imports of certain stainless steel plate in coils. Stainless steel is an alloy steel containing, by weight, 1.2 percent or less of carbon and 10.5 percent or more of chromium, with or without other elements. The subject plate products are flat-rolled products, 254 mm or over in width and 4.75 mm¹ or more in thickness, in coils, and annealed or otherwise heat treated and pickled or otherwise descaled. The subject plate may also be further processed (e.g., cold-rolled, polished, etc.) provided that it maintains the specified dimensions of plate following such processing. Excluded from the scope of the order are the following: (1) Plate not in coils, (2) plate that is not annealed or otherwise heat treated and pickled or otherwise descaled, (3) sheet and strip, and (4) flat bars.

¹ On May 11, 2007, the Department received a scope inquiry request from U&A Belgium regarding whether the scope of the orders on SSPC from Belgium excludes stainless steel products with an actual thickness less than 4.75mm, regardless of its nominal thickness. The Department conducted a scope inquiry applicable to all countries subject to the SSPC antidumping and CVD orders. In the Department's scope ruling, dated December 3, 2008, the Department determined that SSPC with a nominal thickness of 4.75mm, but with an actual thickness less than 4.75mm, and within the dimensional tolerances for this thickness of plate, is included in the scope of the antidumping duty orders on SSPC from Belgium, Italy, South Africa, the Republic of Korea, and Taiwan and CVD orders on SSPC from Belgium and South Africa. See Memorandum from Melissa G. Skinner to Stephen J. Claeys, entitled “Stainless Steel Plate in Coils from Belgium: Final Scope Ruling,” dated December 3, 2008.

The merchandise subject to the order is currently classifiable in the Harmonized Tariff Schedule of the United States (“HTSUS”) at subheadings: 7219.11.00.30, 7219.11.00.60, 7219.12.00.05, 7219.12.00.06, 7219.12.00.20, 7219.12.00.21, 7219.12.00.25, 7219.12.00.26, 7219.12.00.50, 7219.12.00.51, 7219.12.00.55, 7219.12.00.56, 7219.12.00.65, 7219.12.00.66, 7219.12.00.70, 7219.12.00.71, 7219.12.00.80, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the Department's written description of the scope of the order remains dispositive.

Analysis of the Comments Received

All issues raised in this review are addressed in the Issues and Decision Memorandum (“Decision Memorandum”) from Christian Marsh, Deputy Assistant Secretary for Antidumping and Countervailing Duty Operations, to Ronald K. Lorentzen, Deputy Assistant Secretary for Import Administration, dated concurrently with this notice, which is hereby adopted by this notice. Parties can find this public memorandum in the Central Records Unit, Room 7046 of the main Commerce building. In addition, a complete version of the Decision Memorandum can be accessed directly on the Web at http://ia.ita.doc.gov/frn. The paper copy and electronic version of the Decision Memorandum are identical in content.

Preliminary Results of Review

The Department preliminarily determines that revocation of the CVD order will lead to continuation or recurrence of a countervailable subsidy. The net countervailable subsidy likely to prevail if the order were revoked is zero percent for AMS and all other companies.

Interested parties may submit case briefs no later than 50 days after the date of publication of these preliminary results, in accordance with 19 CFR 351.309(c)(1)(i). Any interested party may request a hearing within 30 days of publication of this notice in accordance with 19 CFR 351.310(c). Rebuttal briefs, which must be limited to issues raised in the case briefs, may be filed not later than five days after the time limit for filing case briefs in accordance with 19 CFR 351.309(d). A hearing, if requested, will be held two days after the date the rebuttal briefs are due. The Department will issue a notice of final results of this sunset review, which will include the results of its analysis of issues raised in any such comments, no later than 330 days after the date of publication of the notice of initiation (i.e., by April 28, 2011) in accordance with 19 CFR 351.218(f)(3).

We are issuing and publishing the results and notice in accordance with sections 751(c), 752, and 777(i)(1) of the Act.

Dated: December 15, 2010.
Ronald K. Lorentzen,
Deputy Assistant Secretary for Import Administration.

[FR Doc. 2010-32495 Filed 12-23-10; 8:45 am]

BILLING CODE 3510-DS-PA27DE3.